INTERNATIONAL TRADE COMMISSION

[Investigation No. 337-TA-1000]

Certain Motorized Self-Balancing Vehicles; Notice of Institution of Investigation

AGENCY: U.S. International Trade Commission.

ACTION: Notice.

SUMMARY: Notice is hereby given that a complaint was filed with the U.S. International Trade Commission on March 22, 2016, under section 337 of the Tariff Act of 1930, as amended, 19 U.S.C. 1337, on behalf of Razor USA LLC of Cerritos, California; Inventist, Inc. of Camas, Washington; and Shane Chen of Camas, Washington. Supplements to the complaint were filed on March 23, April 12 and 13, and May 5, 2016. The complaint alleges violations of section 337 based upon the importation into the United States, the sale for importation, and the sale within the United States after importation of certain motorized self-balancing vehicles by reason of infringement of certain claims of U.S. Patent No. 8,738,278 (“the '278 patent”) and that an industry in the United States exists or is in the process of being established as required by subsection (a)(2) of section 337. The complaint further alleges violations of section 337 based on the importation into the United States, or in the sale of certain motorized self-balancing vehicles by reason of false advertising and misrepresentation and unfair competition, the threat or effect of which is to destroy or substantially injure an industry in the United States or to prevent the establishment of such an industry.

The complainants request that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2016).

Scope of Investigation: Having considered the complaint, the U.S. International Trade Commission, on May 20, 2016, ordered that—

(1) Pursuant to subsection (b) of section 337 of the Tariff Act of 1930, as amended, an investigation be instituted to determine:

(a) Whether there is a violation of subsection (a)(1)(B) of section 337 in the importation into the United States, the sale for importation, or the sale within the United States after importation of certain motorized self-balancing vehicles by reason of infringement of one or more of claims 1-9 of the '278 patent, and whether an industry in the United States exists or is in the process of being established as required by subsection (a)(2) of section 337; and

(b) whether there is a violation of subsection (a)(1)(A) of section 337 in the importation into the United States, or in the sale of certain motorized self-balancing vehicles by reason of false advertising and misrepresentation and unfair competition, the threat or effect of which is to destroy or substantially injure an industry in the United States or to prevent the establishment of such an industry.

(2) For the purpose of the investigation so instituted, the following are hereby named as parties upon which this notice of investigation shall be served:

(a) The complainants are:

Razor USA LLC, 12723 166th St., Cerritos, California 90703.

Inventist, Inc., 4901 NW Camas Meadows Drive, Camas, Washington 98607.

Shane Chen, 4901 NW. Camas Meadows Drive, Camas, Washington 98607.

(b) The respondents are the following entities alleged to be in violation of section 337, and are the parties upon which the complaint is to be served:

Alibaba Group Holding Ltd., c/o Alibaba Group Services Limited, 26/F Tower One, Times Square, 1 Matheson Street, Causeway Bay, Hong Kong.

Alibaba.com Ltd., 699 Wang Shang Road, Binjiang District, Hangzhou 310052 China.

Hangzhou Chic Intelligent Technology Co., Ltd, 2/F, No. 2 Building, Liangzhu University Science and Technology Park, No. 1 Jingyi Road, Liangzhu, Hangzhou, 311112, China.

Contixo, 1910 S. Archibald Ave., Ste. A, Ontario, CA 91761.

ZTO Store a.k.a. ZTO Trading, Inc., 333 W. Garvey Ave., Ste. B-128, Monterey Park, CA 91754.

CyBoard LLC a.k.a. Shark Empire Inc., 675 W Broadway, Glendale, CA 91204.

Genius Technologies a.k.a. Prime Capital, 755 East 31st Street, Hastings, MN 55033.

GyroGlyder.com, 1988 E. Alpine Ave., Stockton, CA 95205.

HoverTech, 1600 Worldwide Blvd., Hebron, KY 41048.

InMotion Entertainment Group LLC, 4801 Executive Park Court, Suite 100, Jacksonville, FL 32216.

Soibatian Corporation dba IO Hawk and dba Smart Wheels, 1125 E. Broadway #317, Glendale, CA 91205.

Jetson Electric Bikes LLC, 175 Varick Street, New York, NY 10014.

Joy Hoverboard, a.k.a. Huizhou Aoge, Enterprize Co. Ltd., Huizhou City, with its Pliasant Factory, Shuikou Subdistrict Office, Huizhou, 516005, China.

Shenzhen Kebe Technology Co., Ltd., 4th Floor, Building C, Honglianying T&S, Zone, Sili Road 286, Longhua District, Shenzhen, China.

Leray Group, 3/F., HiChina Mansion, No. 27 Gulouwai Avenue, Dongcheng District, Beijing 100120, China.

Modell's Sporting Goods, Inc., 498 7th Ave., 20th Floor, New York, NY 10018.

Newegg.com Inc., 16839 East Gale Avenue, City of Industry, CA 91745.

PhunkeeDuck, Inc., 250 Jericho Turnpike, Floral Park, NY 11001.

Powerboard a.k.a. Optimum Trading Co., 1600 Worldwide Blvd., Hebron, KY 41048.

Shareconn International, Inc., 9A Unit Q 32 Dong Kang Qiao Zi Jun, Buji Town, Shenzhen, Guangdong, China.

Shenzhen Chenduoxing Electronic Technology Ltd., 4/F, Block C11, Fuyuan Industrial City, Jiuwei, Xixiang, Bao'an Area, Shenzhen, Guangdong, China.

Shenzhen Jomo Technology Co., Ltd., Floor 4th and 7th, Caiyue Bldg., Meilong Road, Bao'an Dist., Shenzhen City, 518112, China.

Shenzhen R.M.T. Technology Co., Ltd., Rm. 711, Shangcheng Business Mansion, No. 73-1, Changjiangpu Road, He'ao, Henggang Street, Longgang Dist., Shenzhen, Guangdong, China.

Shenzhen Supersun Technology Co. Ltd., a.k.a. Aottom, Rm. 2308A, 2308B, International Cultural Building, Futian Road, Futian District, Shenzhen, Guangdong, China.

Skque Products, 12711 Ramona Blvd. Suite 105, Irwindale, CA 91706.

Spaceboard USA, 604 Oakmont Lane, Norcross, Georgia, 30093.

Swagway LLC, 3431 William Richardson Dr., Suite F, South Bend, IN 46628.

Twizzle Hoverboard, 18193 Valley Blvd., La Puente, CA 91744.

Uwheels, 3007 N. Main St., Santa Ana, CA 92705.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: May 20, 2016.
Lisa R. Barton,
Secretary to the Commission.

[FR Doc. 2016-12372 Filed 5-25-16; 8:45 am]

BILLING CODE 7020-02-P